DEPARTMENT OF ENERGY

Federal Energy Regulatory Commission

[Docket No. RP01-477-001]

TransColorado Gas Transmission Company; Notice of Tariff Filing

August 29, 2001.

Take notice that on August 22, 2001, TransColorado Gas Transmission Company (TransColorado) tendered for filing and acceptance, to be effective August 1, 2001, Second Revised First Revised Sheet No. 247B and Alternate Second Revised First Revised Sheet No. 247B to Original Volume No. 1 of its FERC Gas Tariff.

TransColorado states that it is preparing and intends to file, within the prescribed 30-day period, a request for clarification and rehearing of the August 2nd order. TransColorado states that it will ask the Commission to clarify that the 60-day period for crediting penalty revenues will begin with the close of TransColorado's books at year end as opposed to 60 days from December 31st. TransColorado states that in the alternative it will request rehearing of the August 2nd order and request that the Commission revise the 60-day requirement to 90 days consistent with TransColorado's time requirements and the crediting provisions of other interstate pipelines.

Second Revised First Revised Sheet No. 247B reflects revised procedures for crediting net cashout revenues to shippers to: (1) include the accrual of interest and (2) credit those revenues within 60 days after the accounting close of each calendar year consistent with TransColorado's forthcoming request for clarification. Alternate Second Revised First Revised Sheet No. 247B reflects the identical procedures for the accrual of interest, but increases the time frame to complete the crediting to 90 days in the event that rehearing is granted rather than clarification.

TransColorado states that a copy of this filing has been served upon TransColorado's customers, the Colorado Public Utilities Commission and New Mexico Public Utilities Commission.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22226 Filed 9-4-01; 8:45 am]

BILLING CODE 6717-01-P